SMALL BUSINESS ADMINISTRATION

[Disaster Declaration #18185 and #18186; OKLAHOMA Disaster Number OK-00172]

Administrative Disaster Declaration of a Rural Area Amendment for the State of Oklahoma

AGENCY: Small Business Administration.

ACTION: Amendment 1.

SUMMARY: This is an amendment of the Administrative disaster declaration of a rural area for the State of Oklahoma dated 09/20/2023.

Incident: Rural Area—Severe Storms, Straight-Line Winds and Tornadoes.

Incident Period: 06/14/2023 through 06/18/2023.

DATES: Issued on 10/20/2023.

Physical Loan Application Deadline Date:11/20/2023.

Economic Injury (EIDL) Loan Application Deadline Date: 06/20/2024.

ADDRESSES: Submit completed loan applications to: U.S. Small Business Administration, Processing and Disbursement Center, 14925 Kingsport Road, Fort Worth, TX 76155.

FOR FURTHER INFORMATION CONTACT: Alan Escobar, Office of Disaster Recovery & Resilience, U.S. Small Business Administration, 409 3rd Street SW, Suite 6050, Washington, DC 20416, (202) 205-6734.

SUPPLEMENTARY INFORMATION: The notice of an Administrative disaster declaration of a rural area for the State of Oklahoma, dated 09/20/2023 is hereby amended to include the following areas as adversely affected by the disaster.

Primary Counties: Pushmataha.

All other information in the original declaration remains unchanged.

(Catalog of Federal Domestic Assistance Number 59008)

Isabella Guzman,
Administrator.

[FR Doc. 2023-23745 Filed 10-26-23; 8:45 am]

BILLING CODE 8026-09-P